DEPARTMENT OF HEALTH AND HUMAN SERVICES

National Institutes of Health

Center for Scientific Review; Amended Notice of Meeting

Notice is hereby given of a change in the meeting of the Brain Disorders and Clinical Neuroscience 6, June 12, 2003, 3:30 a.m. to June 13, 2003, 5 p.m. Governor's House Hotel, 1615 Rhode Island Avenue, NW., Washington, DC, 20036 which was published in the Federal Register on May 30, 2003, 68 FR 32534-32537.

The starting time of the meeting has been changed to 8:30 a.m. on June 12, 2003. The meeting dates and location remain the same. The meeting is closed to the public.

Dated: June 4, 2003.
LaVerne Y. Stringfield,
Director, Office of Federal Advisory Committee Policy.

[FR Doc. 03-14657 Filed 6-10-03; 8:45 am]

BILLING CODE 4140-01-M